DEPARTMENT OF COMMERCE

National Oceanic and Atmospheric Administration

Proposed Information Collection; Comment Request; North Pacific Observer Safety and Security Survey

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before January 22, 2019.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Special Agent Jaclyn Smith, NOAA Fisheries Office of Law Enforcement, 222 W 7th Ave., #10, Anchorage, AK 99513, 907-271-1869, or Jaclyn.Smith@noaa.gov.

SUPPLEMENTARY INFORMATION:

I. Abstract

This request is for revision of a currently approved information collection.

NMFS certified observers are a vital part of fisheries management. Observers are deployed to collect fisheries data in the field; observers often deploy to vessels and work alongside fishers for weeks and months at a time. The work environment observers find themselves in can be challenging, especially if the observer finds themselves a target for victim type violations such as sexual harassment, intimidation, or even assault. NOAA Fisheries' Office of Law Enforcement prioritizes investigations into allegations of sexual harassment, hostile work environment, assault and other complaints which may affect observers individually. However, it is difficult for a person to disclose if they have been a victim of a crime, and law enforcement cannot respond if no complaint is submitted. The true number of observers who have experienced victim type crimes is unknown, and the reasons why they do not report is also unclear. More information is needed to understand how many observers per year experience victim type crimes, and why they chose not to report to law enforcement.

The Office of Law Enforcement, Alaska Division, is conducting a survey of North Pacific Observers to determine the number of observers who experienced victimizing behavior during deployments in 2018. This survey is a repeat of a voluntary survey previously conducted, and will be launched on an annual basis. The survey will also investigate the reasons that prevented observers from reporting these violations. The results of the survey will provide the Office of Law Enforcement a better understanding of how often observers are victimized, which will enable them to reallocate resources as needed, conduct more training for observers to ensure they know how to report, conduct training to ensure people understand what constitutes a victim crime, and to increase awareness of potential victimizations. Additionally, the survey results will help law enforcement understand the barriers to disclosure, so enforcement may begin to address these impediments so they no longer prevent observers from disclosure.

II. Method of Collection

Data will be collected on a voluntary basis, via an electronic survey to ensure anonymity. The survey will be offered to all observers who deployed in 2018 in the North Pacific Observer Program. Individual data will not be released for public use.

III. Data

OMB Control Number: 0648-0759.

Form Number(s): None.

Type of Review: Regular (request for a revised information collection).

Affected Public: Individuals or households.

Estimated Number of Respondents: 300.

Estimated Time per Response: 10 minutes.

Estimated Total Annual Burden Hours: 50 hours.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 15, 2018.
Sarah Brabson,
NOAA PRA Clearance Officer.

[FR Doc. 2018-25277 Filed 11-19-18; 8:45 am]

BILLING CODE 3510-22-P